DEPARTMENT OF HOMELAND SECURITY

Coast Guard

33 CFR Part 165

[Docket No. USCG-2013-0103]

Safety Zone; Luna Pier Fireworks, Luna Pier, MI

AGENCY: Coast Guard, DHS.

ACTION: Notice of enforcement of regulation.

SUMMARY: The Coast Guard will enforce the safety zone for the Luna Pier Fireworks Show, Luna Pier, MI, from 9:25 p.m. until 10:25 p.m. on August 24, 2013. Enforcement of this zone is necessary to ensure the safety of life on the navigable waters of the United States immediately prior to, during, and immediately after the associated marine event. During the aforementioned period, the Coast Guard will enforce restrictions upon, and control movement of, vessels on those waters of Lake Erie within a 300-yard radius of the fireworks launch site at the Clyde E. Evens Municipal Pier, located at position 41°48′32″ N, 83°26′23″ W (NAD 83) immediately prior to, during, and immediately after the fireworks event.

DATES: The regulation in 33 CFR 165.941(a)(16) will be enforced from 9:25 p.m. until 10:25 p.m. on August 24, 2013.

FOR FURTHER INFORMATION CONTACT: If you have questions on this notice, call or email MST1 Ian Fallon, Response Department, Marine Safety Unit Toledo, 420 Madison Ave., Suite 700, Toledo, OH 43604; telephone (419) 418-6036, email Ian.M.Fallon@uscg.mil.

SUPPLEMENTARY INFORMATION: The Coast Guard will enforce the safety zone listed in 33 CFR 165.941(a)(16) Luna Pier Fireworks Show, Luna Pier, MI from 9:25 p.m. to 10:35 p.m. on August 24, 2013.

Under the provisions of 33 CFR 165.23, entry into, transiting, or anchoring within this safety zone during the enforcement period is prohibited unless authorized by the Captain of the Port Detroit or his designated representative. Vessels that wish to transit through the safety zone may request permission from the Captain of the Port Detroit or his designated representative. Requests must be made in advance and approved by the Captain of Port before transits will be authorized. Approvals will be granted on a case by case basis. The Captain of the Port may be contacted via U.S. Coast Guard Sector Detroit on channel 16, VHF-FM. The Coast Guard will give notice to the public via Local Notice to Mariners and VHF radio broadcasts that the regulation is being enforced.

This notice is issued under authority of 33 CFR 165.941(a)(16) and 5 U.S.C. 552(a). If the Captain of the Port determines that the safety zone need not be enforced for the full duration stated in this notice, he or she may suspend such enforcement and notify the public of the suspension via a Broadcast Notice to Mariners.

Dated: July 29, 2013.
J. E. Ogden,
Captain, U.S. Coast Guard, Captain of the Port Detroit.

[FR Doc. 2013-19506 Filed 8-12-13; 8:45 am]

BILLING CODE 9110-04-P